DEPARTMENT OF AGRICULTURE

Rural Utilities Service

PowerSouth Energy Cooperative, Incorporated: Notice of Intent To Hold Public Scoping Meeting and Prepare an Environmental Assessment

AGENCY: Rural Utilities Service, USDA.

ACTION: Notice of Intent to Hold Public Scoping Meeting and Prepare an Environmental Assessment (EA).

SUMMARY: The Rural Utilities Service, an agency delivering the United States Department of Agriculture (USDA) Rural Development Utilities Programs, hereinafter referred to as Rural Development and/or the Agency, intends to hold a public scoping meeting and prepare an Environmental Assessment (EA) to meet its responsibilities under the National Environmental Policy Act (NEPA) and 7 CFR 1794 in connection with potential impacts related to projects proposed by PowerSouth Energy Cooperative, Inc. (PowerSouth) of Andalusia, Alabama. The proposal consists of the construction of a new 360-megawatt peaking-load gas-fired generation facility at the existing McIntosh Power Plant. PowerSouth is requesting USDA Rural Development to provide financial assistance for the proposed action.

DATES: Rural Development will conduct a scoping meeting in an open house format in order to provide information and solicit comments for the preparation of an EA. The meeting will be held on November 20, 2008, from 6:30 p.m. until 8:30 p.m. at the McIntosh Elementary School in McIntosh, Alabama. Written questions and comments must be received no later than December 22, 2008.

ADDRESSES: To send comments or for further information, contact: Stephanie Strength, Environmental Protection Specialist, Rural Development Utilities Programs, Engineering and Environmental Staff, 1400 Independence Avenue, SW., Stop 1571, Washington, DC 20250-1571, or e-mail stephanie.strength@wdc.usda.gov. The McIntosh Elementary School is located at 8945 Highway 43 N.Highway 43 North, Highway 43 Northon the west side of Highway 43 near the Ciba Plant entrance, McIntosh, Alabama, telephone (251) 944-2481. An Alternatives Report prepared by PowerSouth will be available at the public scoping meeting, at the Agency's address provided in this notice, at the Agency's Web site: http://www.usda.gov/rus/water/ees/ea.htm, at PowerSouth Energy Cooperative, Inc., 2027 East Three Notch Street, Andalusia, Alabama 36420, and at the:

McIntosh Branch Library, 83 Olin Road, McIntosh, AL 36553, Phone: 251-944-2047.

Washington Public Library, 14102 St. Stephens Avenue, Chatom, AL 36515. Phone: 251-847-2097.

SUPPLEMENTARY INFORMATION: PowerSouth Energy Cooperative, Inc. proposes to construct a new 360-megawatt peaking-load gas-fired generation facility at the existing McIntosh Power Plant in Washington County, Alabama with an in-service date of late 2010.

Government agencies, private organizations, and the public are invited to participate in the planning and analysis of the proposed project. Representatives from the Agency and PowerSouth Energy Cooperative, Inc. will be available at the scoping meeting to discuss the environmental review process, describe the proposal, discuss the scope of environmental issues to be considered, answer questions, and accept comments. As part of its broad environmental review process, the Agency must take into account the effect of the proposal on historic properties in accordance with Section 106 of the National Historic Preservation Act and its implementing regulation, “Protection of Historic Properties” (36 CFR Part 800). Pursuant to 36 CFR 800.2(d)(3), the Agency is using its procedures for public involvement under NEPA to meet is responsibilities to solicit and consider the views of the public during Section 106 review. Accordingly, comments submitted in response to scoping will inform Agency decision making in Section 106 review. Any party wishing to participate more directly with the Agency as a “consulting party” in Section 106 review may submit a written request to do so to the Agency contact at the above address.

From information provided in the Alternatives Report, input that may be provided by government agencies, private organizations, and the public, PowerSouth Energy Cooperative, Inc. will prepare an environmental analysis to be submitted to the Agency for review. The Agency will review the environmental analysis to determine the significance of the impacts of the proposal and if acceptable will adopt it as the environmental assessment (EA) of the proposal. The Agency's EA would be available for review and comment for 30 days, with a notice of availability published in area newspapers and the Federal Register. Should the Agency determine that the preparation of an Environmental Impact Statement is not necessary, it will prepare a Finding of No Significant Impact (FONSI). Public notification of a FONSI would be published in the Federal Register and in newspapers with circulation in the proposal area.

Any final action by Rural Development related to the proposed project will be subject to, and contingent upon, compliance with environmental review requirements as prescribed by the Agency's environmental policies and procedures (7 CFR 1794).

Dated: October 30, 2008.
Ben Shuman,
Acting Director, Engineering and Environmental Staff, USDA/Rural Development/Utilities Programs.

[FR Doc. E8-26388 Filed 11-4-08; 8:45 am]

BILLING CODE 3410-15-P